DEPARTMENT OF DEFENSE

Office of the Secretary

[Docket ID DoD-2014-OS-0144]

Submission for OMB Review; Comment Request

ACTION: Notice.

SUMMARY: The Department of Defense has submitted to OMB for clearance, the following proposal for collection of information under the provisions of the Paperwork Reduction Act.

DATES: Consideration will be given to all comments received by November 20, 2014.

FOR FURTHER INFORMATION CONTACT: Fred Licari, 571-372-0493.

SUPPLEMENTARY INFORMATION: Title, Associated Form and OMB Number: Defense Materiel Disposition Procedures for the Sale of DoD Materiel Sale of Government Property; Sale of Government Property Item Bid Page (SF 114); Statement of Intent (DRMS 1645); Pre-Award Review (DRMS 2006); OMB Control Number 0704-XXXX.

Type of Request: Emergency: New Collection.

Sale of Government Property Item Bid Page (SF 114)

Number of Respondents: 45.

Responses per Respondent: 1.

Annual Responses: 45.

Average Burden per Response: 45 minutes.

Annual Burden Hours: 33.75 hours.

Statement of Intent (DRMS 1645)

Number of Respondents: 72.

Responses per Respondent: 1.

Annual Responses: 72.

Average Burden per Response: 1.5 hours.

Annual Burden Hours: 108 hours.

Pre-Award Review (DRMS 2006)

Number of Respondents: 72.

Responses per Respondent: 1.

Annual Responses: 72.

Average Burden per Response: 1.25 hours.

Annual Burden Hours: 90 hours.

TOTALS

Number of Respondents: 189.

Responses per Respondent: 1.

Annual Responses: 189.

Average Burden per Response: 1.25 hours.

Annual Burden Hours: 232 hours.

Needs and Uses: The use of these forms is necessary to provide property disposition procedures during one of the largest periods of drawdown in recent history. As the war in Afghanistan comes to a close and the Department prepares for reductions in force structure, these procedures will guide the effective and efficient disposition of property to maximize stewardship of taxpayer-funded equipment. The information will be used to facilitate transfers of hazardous and dangerous property to parties outside DoD control. All individuals or businesses that are the attempting to purchase DoD property must submit a DRMS Form 1645 and have a SF114A. The information on the forms serves as a type of bid for DoD property and to ensure recipient's eligibility to conduct business with the government.

Affected Public: Individuals or Households; Business or Other For-Profit.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: October 15, 2014.
Aaron Siegel,
Alternate OSD Federal Register Liaison Officer, Department of Defense.

[FR Doc. 2014-24913 Filed 10-20-14; 8:45 am]

BILLING CODE 5001-06-P